DEPARTMENT OF JUSTICE

Antitrust Division

Notice Pursuant to the National Cooperative Research and Production Act of 1993—FreedomCAR Hydrogen Storage and Vehicle Interface Technical Team

Notice is hereby given that, on December 3, 2002, pursuant to section 6(a) of the National Cooperative Research and Production Act of 1993, 15 U.S.C. 4301 et seq. (“the Act”), FreedomCAR Hydrogen Storage and Vehicle Interface Technical Team has filed written notifications simultaneously with the Attorney General and the Federal Trade Commission disclosing (1) the identities of the parties and (2) the nature and objectives of the venture. The notifications were filed for the purpose of invoking the act's provisions limiting the recovery of antitrust plaintiffs to actual damages under specified circumstances. Pursuant to section 6(b) of the Act, the identities of the parties are General Motors Corporation, Detroit, MI; DaimlerChrysler Corporation, Auburn Hills, MI; and Ford Motor Company, Dearborn, MI. The nature and objectives of the venture are to conduct joint research necessary to develop and demonstrate commercially viable technology for storage of hydrogen on board vehicles and the various interfaces between the hydrogen storage unit and other components of the vehicle. The research will support FreedomCAR, a joint effort of the Federal government and the U.S. auto industry to develop affordable, hydrogen-powered vehicles. To accomplish this objective, the parties, working in conjunction with government entities, universities and suppliers, will conduct workshops, experiments and other acts allowed by the National Cooperative Research and Production Act that would advance those goals.

Constance K. Robinson,
Director of Operations, Antitrust Division.

[FR Doc. 03-624 Filed 1-10-03; 8:45 am]

BILLING CODE 4410-11-M